DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing updates to the identifying information of one or more persons currently included on OFAC's Specially Designated Nationals and Blocked Persons List (SDN List). All property and interests in property subject to U.S. jurisdiction of this person are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On August 15, 2023, OFAC published revised information for the following entity on OFAC's SDN List, which remains blocked under the relevant sanctions authorities listed below.

Entity

1. UNICIOUS ENERGY PTE. LTD. (a.k.a. UNICIOUS ENERGY PTE; a.k.a. UNICIOUS SA), Suntec Tower Four, 6 Temasek Boulevard #10-05, 38986, Singapore, Singapore; Dubai, United Arab Emirates; Quai des Bergues 29, 1201, Geneva, Switzerland; website https://unicious.com/; Additional Sanctions Information—Subject to Secondary Sanctions; Organization Established Date 15 Nov 2019; Company Number 98450014F53C71A88A79 (Singapore); Business Registration Number 201938747K (Singapore) [IRAN-EO13846] (Linked To: TRILIANCE PETROCHEMICAL CO. LTD.).

Dated: August 15, 2023.
Andrea M. Gacki,
Director, Office of Foreign Assets Control, U.S. Department of the Treasury.

[FR Doc. 2023-17973 Filed 8-21-23; 8:45 am]

BILLING CODE 4810-AL-P